DEPARTMENT OF TRANSPORTATION

Federal Aviation Administration

Notice of Intent To Rule on Application (00-03-C-00-BIL) To Impose and Use the Revenue From a Passenger Facility Charge (PFC) at Billings Logan International Airport, Submitted by the City of Billings for Billings Logan International Airport, Billings, MT

AGENCY: Federal Aviation Administration (FAA), DOT.

ACTION: Notice of Intent to Rule on Application.

SUMMARY: The FAA proposes to rule and invites public comment on the application to impose and use PFC revenue at Billings Logan International Airport under the provisions of 49 U.S.C. 40117 and Part 158 of the Federal Aviation Regulations (14 CFR 158).

DATES: Comments must be received on or before September 5, 2000.

ADDRESSES: Comments on this application may be mailed or delivered in triplicate to the FAA at the following address: David P. Gabbert, Manager; Helena Airports District Office; Federal Aviation Administration; FAA Building, Suite 2; 2725 Skyway Drive; Helena, MT 59602.

In addition, one copy of any comments submitted to the FAA must be mailed or delivered to Mr. J. Bruce Putnam, Director of Aviation and Transit, at the following address: 1901 Terminal Circle, Room 216, Billings, MT 59105-1996

Air Carriers and foreign air carriers may submit copies of written comments previously provided to Billings Logan International Airport, under section 158.23 of Part 158.

FOR FURTHER INFORMATION CONTACT: David P. Gabbert, Manager, at (406) 449-5271. Address: Federal Aviation Administration; Airports District Office; FAA Building Suite 2; 2725 Skyway Drive; Helena, MT 59602. The application may be reviewed in person at this same location.

SUPPLEMENTARY INFORMATION: The FAA proposes to rule and invites public comment on the application (00-03-C-00-BIL) to impose and use PFC revenue at Billings Logan International Airport, under the provisions of 49 U.S.C. 40117 and Part 158 of the Federal Aviation Regulations (14 CFR Part 158).

On July 27, 2000, the FAA determined that the application to impose and use the revenue from a PFC submitted by City of billings, Billings Logan International Airport, Billings, MT, was substantially complete within the requirements of section 158.25 of Part 158. The FAA will approve or disapprove the application, in whole or in part, no later than October 27, 2000.

The following is a brief overview of the application.

Level of the proposed PFC: $3.00.

Proposed charge effective date: January 1, 2001.

Proposed charge expiration date: August 31, 2005.

Total requested for impose and use approval: $4,153,600.

Brief description of proposed projects: Terminal Area Improvements; Deicing Facility; Snow Removal Equipment; Electrical Improvements; Financing costs.

Class or classes of air carriers which the public agency has requested not be required to collect PFCs: None.

Any person may inspect the application in person at the FAA office listed above under FOR FURTHER INFORMATION CONTACT and at the FAA Regional Airports Office located at: Federal Aviation Administration, Northwest Mountain Region, Airports Division, ANM-600 1601 Lind Avenue S.W., Suite 540, Renton, WA 98055-4056.

In addition, any person may, upon request, inspect the application, notice and other documents germane to the application in person at the Billings Logan International Airport.

Issued in Renton, Washington on July 27, 2000.
David A. Field,
Manager, Planning, Programming and Capacity Branch, Northwest Mountain Region.

[FR Doc. 00-19843 Filed 8-3-00; 8:45 am]

BILLING CODE 4910-13-M